DEPARTMENT OF COMMERCE

Bureau of Industry and Security Information Systems

Technical Advisory Committee; Notice of Partially Closed Meeting

The Information Systems Technical Advisory Committee (ISTAC) will meet on April 25 and 26, 2018, 9:00 a.m., in the Herbert C. Hoover Building, Room 3884, 14th Street between Constitution and Pennsylvania Avenues NW, Washington, DC. The Committee advises the Office of the Assistant Secretary for Export Administration on technical questions that affect the level of export controls applicable to information systems equipment and technology.

Wednesday, April 25, 2018

Open Session

1. Welcome and Introductions

2. Working Group Reports

3. Old Business

4. Learnings from Semiconductor and Device Roadmaps: 10, 7, 5nm and beyond

5. Industry Wassenaar Proposals for 2019

Thursday, April 26, 2018

Closed Session

6. Discussion of matters determined to be exempt from the provisions relating to public meetings found in 5 U.S.C. app. 2 §§ 10(a)(1) and 10(a)(3).

The open sessions will be accessible via teleconference to 25 participants on a first come, first serve basis. To join the conference, submit inquiries to Ms. Joanna M. Lewis at Joanna.Lewis@bis.doc.gov no later than, April 18, 2018.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Lewis via email.

The Assistant Secretary for Administration, with the concurrence of the delegate of the General Counsel, formally determined on January 4, 2018, pursuant to Section 10(d) of the Federal Advisory Committee Act, as amended (5 U.S.C. app. 2 § (l0)(d)), that the portion of the meeting concerning trade secrets and commercial or financial information deemed privileged or confidential as described in 5 U.S.C. 552b(c)(4) and the portion of the meeting concerning matters the disclosure of which would be likely to frustrate significantly implementation of an agency action as described in 5 U.S.C. 552b(c)(9)(B) shall be exempt from the provisions relating to public meetings found in 5 U.S.C. app. 2 §§ 10(a)(1) and l0(a)(3). The remaining portions of the meeting will be open to the public.

For more information, call Joanna M. Lewis at (202) 482-6440.

Joanna M. Lewis,
Committee Liaison Officer.

[FR Doc. 2018-06720 Filed 4-2-18; 8:45 am]

BILLING CODE 3510-JT-P